CONSUMER FINANCIAL PROTECTION BUREAU

[Docket No. CFPB-2024-0035]

Agency Information Collection Activities; Comment Request

AGENCY: Consumer Financial Protection Bureau.

ACTION: Notice and request for comment.

SUMMARY: In accordance with the Paperwork Reduction Act of 1995 (PRA), the Consumer Financial Protection Bureau (CFPB) requests the revision of the Office of Management and Budget's (OMB's) approval for an existing information collection titled “Consumer Response Government and Congressional Portal Boarding Forms” approved under OMB Control Number 3170-0057.

DATES: Written comments are encouraged and must be received on or before August 22, 2024 to be assured of consideration.

ADDRESSES: Written comments and recommendations for the proposed information collection should be sent within 30 days of publication of this notice to www.reginfo.gov/public/do/PRAMain. Find this particular information collection by selecting “Currently under 30-day Review—Open for Public Comments” or by using the search function. In general, all comments received will become public records, including any personal information provided. Sensitive personal information, such as account numbers or Social Security numbers, should not be included.

FOR FURTHER INFORMATION CONTACT: Requests for additional information should be directed to Anthony May, Paperwork Reduction Act Officer, at (202) 435-7278, or email: CFPB_PRA@cfpb.gov. If you require this document in an alternative electronic format, please contact CFPB_Accessibility@cfpb.gov. Please do not submit comments to these email boxes.

SUPPLEMENTARY INFORMATION:

Title of Collection: Consumer Response Government and Congressional Portal Boarding Forms.

OMB Control Number: 3170-0057.

Type of Review: Revision of a currently approved collection.

Affected Public: State, local, and Tribal governments; Federal Government.

Estimated Number of Respondents: 60.

Estimated Total Annual Burden Hours: 14.

Abstract: Section 1013(b)(3)(A) of the Dodd-Frank Wall Street Reform and Consumer Protection Act (Dodd-Frank Act or Act) requires the CFPB to “facilitate the centralized collection of, monitoring of, and response to consumer complaints regarding consumer financial products or services.” ¹ The Act also requires the CFPB to “share consumer complaint information with prudential regulators, the Federal Trade Commission, other Federal agencies, and State agencies.” ² To facilitate the collection of complaints, the CFPB accepts consumer complaints submitted by Members of Congress on behalf of their constituents with the consumer's express written authorization for the release of their personal information. In furtherance of its statutory mandates related to consumer complaints, the CFPB uses Government and Congressional Portal Boarding Forms (i.e., Boarding Forms) to register users for access to secure, web-based portals. The CFPB has developed separate portals for congressional users and other government users as part of its secure web portal offerings (the “Government Portal” and the “Congressional Portal,” respectively).³

¹ Codified at 12 U.S.C. 5493(b)(3)(A).

² Dodd-Frank Act section 1013(b)(3)(D), codified at 12 U.S.C. 5493(b)(3)(D).

³ In addition to the boarding forms for congressional and government users, CFPB utilizes a separate OMB-approved form to board companies onto their own distinct portal to access complaints submitted against them, through OMB Control Number 3170-0054 (Consumer Complaint Intake System Company Portal Boarding Form Information Collection System).

Through the Government Portal, government users can view consumer complaint information in a user-friendly format that allows easy review of complaints currently active in the CFPB process, complaints referred to a prudential Federal regulator, and other closed/archived complaints.

Through the Congressional Portal, Members of Congress and authorized congressional office staff can view data associated with consumer complaints they submit on behalf of their constituents with the consumer's express written authorization for the release of their personal information. The Congressional Portal only displays information about complaints submitted by the individual congressional office.

Changes in this revision reflect the requirements outlined in 12 CFR 1070.43(b)(2) that requires a citation to the agency's legal authority to review, possess, and examine consumer complaints. Therefore, new language and fields have been added to the form.

Request for Comments: The CFPB published a 60-day Federal Register notice on March 27, 2024 (89 FR 21244) under Docket Number: CFPB-2024-0014. The CFPB is publishing this notice and soliciting comments on: (a) Whether the collection of information is necessary for the proper performance of the functions of the CFPB, including whether the information will have practical utility; (b) The accuracy of the CFPB's estimate of the burden of the collection of information, including the validity of the methods and the assumptions used; (c) Ways to enhance the quality, utility, and clarity of the information to be collected; and (d) Ways to minimize the burden of the collection of information on respondents, including through the use of automated collection techniques or other forms of information technology. Comments submitted in response to this notice will be reviewed by OMB as part of its review of this request. All comments will become a matter of public record.

Anthony May,
Paperwork Reduction Act Officer, Consumer Financial Protection Bureau.

[FR Doc. 2024-16120 Filed 7-22-24; 8:45 am]

BILLING CODE 4810-AM-P